DEPARTMENT OF TRANSPORTATION

Federal Aviation Administration

Second Meeting, Special Committee 213/EUROCAE: Enhanced Flight Vision Systems/Synthetic Vision Systems (EFVS/SVS), EUROCAE Working Group 79 (WG-79).

AGENCY: Federal Aviation Administration (FAA), DOT.

ACTION: Notice of RTCA Special Committee 213/EUROCAE, Enhanced Flight Vision Systems/Synthetic Vision Systems (EFVS/SVS), EUROCAE Working Group 79 (WG-79).

SUMMARY: The FAA is issuing this notice to advise the public of a first meeting of RTCA Special Committee 213, Standards for Air Traffic Data Communication Services.

DATES: The meeting will be held November 6-7, 2008 from 9 a.m.-5 p.m.

ADDRESSES: The meeting will be held at RTCA, Inc., 1828 L Street NW., Suite 805, Washington, DC 20036.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 213 meeting. The agenda will include:

November 6

• Opening Plenary Session (Welcome, Introductions, and Agenda Review)

• Approval 1st Common Meeting SC-213/WG-79 Summary

• Resolve final review and comment (FRAC) comments and approve SC-213/WG-79 draft MASPS for EVS, SVS, CVS and EFVS

November 7

• Continue resolution of FRAC comments on the draft MASPS, as required

• Approve document for consideration by the PMC on December 16, 2008

• Closing Plenary Session (Other Business, Date and Place of Next Meeting, Meeting Evaluation, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 10, 2008.
James H. Williams,
Director, Systems in Engineering and Safety, RTCA Advisory Committee (Acting).

[FR Doc. E8-24764 Filed 10-16-08; 8:45 am]

BILLING CODE 4910-13-P